DEPARTMENT OF TRANSPORTATION

National Highway Traffic Safety Administration

[Docket No. NHTSA-2010-0177; Notice 1]

OSRAM SYLVANIA Products, Inc., Receipt of Petition for Decision of Inconsequential Noncompliance

OSRAM SYLVANIA Products, Inc., (OSRAM SYLVANIA) ¹, has determined that certain Type “H11 C” light sources that it manufactured fail to meet the requirements of paragraph S7.7 of Federal Motor Vehicle Safety Standard (FMVSS) No. 108, Lamps, Reflective Devices, and Associated Equipment. OSRAM SYLVANIA has filed an appropriate report pursuant to 49 CFR part 573, Defect and Noncompliance Responsibility and Reports, dated August 24, 2010.

¹ OSRAM SYLVANIA Products, Inc., is organized under the laws of the State of Delaware and is a manufacturer and importer of replacement equipment.

Pursuant to 49 U.S.C. 30118(d) and 30120(h) (see implementing rule at 49 CFR part 556), OSRAM SYLVANIA has petitioned for an exemption from the notification and remedy requirements of 49 U.S.C. chapter 301 on the basis that this noncompliance is inconsequential to motor vehicle safety.

This notice of receipt of OSRAM SYLVANIA's petition is published under 49 U.S.C. 30118 and 30120 and does not represent any agency decision or other exercise of judgment concerning the merits of the petition.

OSRAM SYLVANIA estimates that approximately 28,412 “H11 C” light sources(bulbs) that it manufactured on June 23 and 24, 2010 are affected. All of the affected light sources were manufactured by OSRAM GmbH, Industriestrasse, Herbrechtingen, Germany.

NHTSA notes that the statutory provisions (49 U.S.C. 30118(d) and 30120(h)) that permit manufacturers to file petitions for a determination of inconsequentiality allows NHTSA to exempt manufacturers only from the duties found in sections 30118 and 30120, respectively, to notify owners, purchasers, and dealers of a defect or noncompliance and to remedy the defect or noncompliance.

Paragraph S7.7 of FMVSS No. 108 requires in pertinent part:

S7.7 Replaceable light sources. Each replaceable light source shall be designed to conform to the dimensions and electrical specifications furnished with respect to it pursuant to part 564 of this chapter, and shall conform to the following requirements:

(a) If other than an HB Type, the light source shall be marked with the bulb marking designation specified for it in compliance with Appendix A or Appendix B of part 564 of this chapter. The base of each HB Type shall be marked with its HB Type designation. Each replaceable light source shall also be marked with the symbol DOT and with a name or trademark in accordance with paragraph S7.2* * *

OSRAM SYLVANIA described the noncompliance as the mismarking of type “H11 C” lighting sources as type “H11.”

In its petition OSRAM SYLVANIA argues that the noncompliance is inconsequential to motor vehicle safety for the following reasons:

(1) The noncompliance in this case pertains solely to the failure of the subject light sources to meet the applicable markings requirements.

(2) “H11 C” light sources are designed to be completely interchangeable with the original “H11” light sources. When Philips Lighting B.V., submitted its modification to the “H11” light source specification that became the “H11 C” specification it certified that use of the “H11 C” light source will not create a noncompliance with any requirement of FMVSS No. 108 when used to replace “H11” light source in a headlamp certified by its manufacturer as conforming to all applicable Federal motor vehicle safety standards. Subject “H11 C” light sources are designed to conform to Part 564 Docket NHTSA 98-3397-81 including the additional requirements under IX. In other words, inadvertent installation of a subject “H11 C” light source in place of an “H11” light source—or vice versa—will not create a noncompliance with any of the performance or interchangeability requirements of FMVSS No. 108 (including beam pattern photometrics) or otherwise present an increased risk to motor vehicle safety.

(3) “H11 C” light sources have the same filament position, dimension and tolerances, capsule and capsule support dimensions, bulb base interchangeability dimensions, seal specifications, and electrical specifications as the “H11.” The only difference between the “H11” light source and the “H11 C” light source is that the “H11 C” provides for the light transmitting portion of the glass wall to incorporate a color controlling optical filter in order to improve visibility.²

² Petition for “H11 C” Replaceable Light Sources Listing, Docket NHTSA 98-3397-81, November 1, 2007.

(4) The agency has concluded in previous similar petitions that a noncompliance is inconsequential when mismarked light sources are otherwise fully compliant with the performance requirements of the standard.

Supported by the above stated reasons, OSRAM SYLVANIA believes that the described FMVSS No. 108 noncompliance is inconsequential to motor vehicle safety, and that its petition, to exempt it from providing recall notification of noncompliance as required by 49 U.S.C. 30118 and remedying the recall noncompliance as required by 49 U.S.C. 30120, should be granted.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: February 24, 2011.

Authority: (49 U.S.C. 30118, 30120: delegations of authority at CFR 1.50 and 501.8)

Issued on: January 18, 2011.
Claude H. Harris,
Acting Associate Administrator for Enforcement.

[FR Doc. 2011-1417 Filed 1-24-11; 8:45 am]

BILLING CODE 4910-59-P